DEPARTMENT OF ENERGY

Federal Energy Regulatory Commission

Combined Notice of Filings #1

Take notice that the Commission received the following electric corporate filings:

Docket Numbers: EC22-7-000.

Applicants: ACR II Granite Shore Power Holdings LLC, GSP Lost Nation LLC, GSP Merrimack LLC, GSP Newington LLC, GSP Schiller LLC, GSP White Lake LLC.

Description: Application for Authorization Under Section 203 of the Federal Power Act of ACR II Granite Shore Power Holdings LLC, et al.

Filed Date: 10/20/21.

Accession Number: 20211020-5117.

Comment Date: 5 p.m. ET 11/10/21.

Take notice that the Commission received the following exempt wholesale generator filings:

Docket Numbers: EG22-11-000.

Applicants: Ellis Solar, LLC.

Description: Self-Certification of EG or FC of Ellis Solar, LLC.

Filed Date: 10/20/21.

Accession Number: 20211020-5124.

Comment Date: 5 p.m. ET 11/10/21.

Take notice that the Commission received the following electric rate filings:

Docket Numbers: ER19-2564-002.

Applicants: Hickory Run Energy, LLC.

Description: Compliance filing: Revised Market Based Rate Tariff to be effective 12/20/2021.

Filed Date: 10/20/21.

Accession Number: 20211020-5052.

Comment Date: 5 p.m. ET 11/10/21.

Docket Numbers: ER21-276-001.

Applicants: Georgia Power Company.

Description: Compliance filing: FP&L and JEA Scherer Unit 4 TSAs Order No. 864 Deficiency Response Filing to be effective N/A.

Filed Date: 10/20/21.

Accession Number: 20211020-5120.

Comment Date: 5 p.m. ET 11/10/21.

Docket Numbers: ER21-378-001.

Applicants: Mississippi Power Company.

Description: Compliance filing: Gulf States TFA Order No. 864 Deficiency Response Filing to be effective N/A.

Filed Date: 10/20/21.

Accession Number: 20211020-5041.

Comment Date: 5 p.m. ET 11/10/21.

Docket Numbers: ER21-2515-001.

Applicants: Dominion Energy South Carolina, Inc.

Description: Compliance filing: Order 676-I Amended Compliance Filing to be effective 12/31/9998.

Filed Date: 10/20/21.

Accession Number: 20211020-5055.

Comment Date: 5 p.m. ET 11/10/21.

Docket Numbers: ER21-2889-001.

Applicants: PSEG Keys Energy Center LLC.

Description: Tariff Amendment: Supplement to Market-Based Rate Tariff to be effective 9/16/2021.

Filed Date: 10/20/21.

Accession Number: 20211020-5094.

Comment Date: 5 p.m. ET 11/10/21.

Docket Numbers: ER21-2890-001.

Applicants: PSEG Fossil Sewaren Urban Renewal LLC.

Description: Tariff Amendment: Supplement to Market-Based Rate Tariff to be effective 9/16/2021.

Filed Date: 10/20/21.

Accession Number: 20211020-5093.

Comment Date: 5 p.m. ET 11/10/21.

Docket Numbers: ER21-2909-001.

Applicants: PacifiCorp.

Description: Tariff Amendment: UAMPS Agmt Re SS of Ancillary Serv Sched 5 and/or 6 Amended Filing to be effective 9/17/2021.

Filed Date: 10/20/21.

Accession Number: 20211020-5119.

Comment Date: 5 p.m. ET 11/10/21.

Docket Numbers: ER21-2934-000.

Applicants: East Texas Electric Cooperative, Inc.

Description: Supplement to September 24, 2021 Notice of Cancellation of Revenue Requirements for Reactive Service of East Texas Electric Cooperative, Inc.

Filed Date: 10/19/21.

Accession Number: 20211019-5149.

Comment Date: 5 p.m. ET 11/9/21.

Docket Numbers: ER21-2943-001.

Applicants: Florida Power & Light Company.

Description: Tariff Amendment: FPL Clarification Regarding Requested Effective Date for eTariff Records-317 to be effective 9/28/2021.

Filed Date: 10/20/21.

Accession Number: 20211020-5123.

Comment Date: 5 p.m. ET 11/10/21.

Docket Numbers: ER21-2945-001.

Applicants: Florida Power & Light Company.

Description: Tariff Amendment: FPL Clarification Regarding Requested Effective Date for eTariff Records-322 to be effective 9/28/2021.

Filed Date: 10/20/21.

Accession Number: 20211020-5127.

Comment Date: 5 p.m. ET 11/10/21.

Docket Numbers: ER22-150-000.

Applicants: Public Service Company of New Mexico.

Description: § 205(d) Rate Filing: Pseudo Tie Agreement with Red Cloud Wind, Rate Schedule No. 176 to be effective 11/1/2021.

Filed Date: 10/19/21.

Accession Number: 20211019-5140.

Comment Date: 5 p.m. ET 11/9/21.

Docket Numbers: ER22-151-000.

Applicants: ITC Midwest LLC.

Description: § 205(d) Rate Filing: Filing of a Joint Use Pole Agreement to be effective 12/20/2021.

Filed Date: 10/19/21.

Accession Number: 20211019-5144.

Comment Date: 5 p.m. ET 11/9/21.

Docket Numbers: ER22-152-000.

Applicants: Midcontinent Independent System Operator, Inc., Otter Tail Power Company.

Description: § 205(d) Rate Filing: Midcontinent Independent System Operator, Inc. submits tariff filing per 35.13(a)(2)(iii): 2021-10-20_SA 3720 OTP-MPC FCA (Bartlett) to be effective 10/7/2021.

Filed Date: 10/20/21.

Accession Number: 20211020-5063.

Comment Date: 5 p.m. ET 11/10/21.

Docket Numbers: ER22-153-000.

Applicants: PJM Interconnection, L.L.C.

Description: § 205(d) Rate Filing: Amendment to WMPA, SA No. 4644; Queue No. AB1-163 (consent) to be effective 2/8/2017.

Filed Date: 10/20/21.

Accession Number: 20211020-5069.

Comment Date: 5 p.m. ET 11/10/21.

Docket Numbers: ER22-154-000.

Applicants: Pacific Gas and Electric Company.

Description: § 205(d) Rate Filing: Amendment to Interim Black Start Agreement (RS 234) 2021 to be effective 12/19/2021.

Filed Date: 10/20/21.

Accession Number: 20211020-5073.

Comment Date: 5 p.m. ET 11/10/21.

Docket Numbers: ER22-155-000.

Applicants: American Transmission Systems, Incorporated, PJM Interconnection, L.L.C.

Description: § 205(d) Rate Filing: American Transmission Systems, Incorporated submits tariff filing per 35.13(a)(2)(iii): ATSI submits One ECSA, SA Nos. 6050 to be effective 12/20/2021.

Filed Date: 10/20/21.

Accession Number: 20211020-5110.

Comment Date: 5 p.m. ET 11/10/21.

Docket Numbers: ER22-156-000.

Applicants: Avista Corporation.

Description: Tariff Amendment: Avista Corp Cancellation of RS T1168 BPA Walla Walla Wanapum Const Agmt to be effective 10/21/2021.

Filed Date: 10/20/21.

Accession Number: 20211020-5112.

Comment Date: 5 p.m. ET 11/10/21.

Docket Numbers: ER22-157-000.

Applicants: Mid-Atlantic Interstate Transmission, LLC, PJM Interconnection, L.L.C.

Description: § 205(d) Rate Filing: Mid-Atlantic Interstate Transmission, LLC submits tariff filing per 35.13(a)(2)(iii): MAIT submits Three ECSAs, SA Nos. 6051-6053 to be effective 12/20/2021.

Filed Date: 10/20/21.

Accession Number: 20211020-5114.

Comment Date: 5 p.m. ET 11/10/21.

Take notice that the Commission received the following PURPA 210(m)(3) filings:

Docket Numbers: QM22-3-000.

Applicants: Lincoln Electric System.

Description: Application of Lincoln Electric System to Terminate Its Mandatory Purchase Obligation under the Public Utility Regulatory Policies Act of 1978.

Filed Date: 10/7/21.

Accession Number: 20211007-5060.

Comment Date: 5 p.m. ET 11/4/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2021.
Debbie-Anne A. Reese,
Deputy Secretary.

[FR Doc. 2021-23299 Filed 10-25-21; 8:45 am]

BILLING CODE 6717-01-P